DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of March 13, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Fayette County, Iowa and Incorporated Areas
Docket No.: FEMA-B-2145 and FEMA-B-2298
City of Elgin | City Hall, 212 Main Street, Elgin, IA 52141.
City of Oelwein | City Hall, 20 2nd Avenue Southwest, Oelwein, IA 50662.
Unincorporated Areas of Fayette County | Fayette County Courthouse, 114 North Vine Street, West Union, IA 52175.
Dickinson County, Kansas and Incorporated Areas
Docket No.: FEMA-B-1975, FEMA-B-2179, FEMA-B-2298
City of Abilene | Office of the City Inspector, 419 North Broadway Street, Abilene, KS 67410.
City of Chapman | City Hall, 446 North Marshall Street, Chapman, KS 67431.
City of Enterprise | City Hall, 206 South Factory Street, Enterprise, KS 67441.
City of Herington | City Office, 17 North Broadway, Herington, KS 67449.
City of Hope | City Office, 113 North Main Street, Hope, KS 67451.
City of Manchester | City Office, 610 Lina Avenue, Manchester, KS 67410.
City of Solomon | City Office, 116 West Main Street, Solomon, KS 67480.
Unincorporated Areas of Dickinson County | Dickinson County Courthouse, 109 East 1st Street, Suite 202, Abilene, KS 67410.
Carlton County, Minnesota and Incorporated Areas
Docket No.: FEMA-B-2204
City of Barnum | City Hall, 3842 Main Street, Barnum, MN 55707.
City of Carlton | City Hall, 310 Chestnut Avenue, Carlton, MN 55718.
City of Cloquet | City Hall, 101 14th Street, Cloquet, MN 55720.
City of Cromwell | Cromwell City Office, 1272 Highway 73, Cromwell, MN 55726.
City of Moose Lake | City Hall, 412 4th Street, Moose Lake, MN 55767.
City of Scanlon | Community Center, 2801 Dewey Avenue, Scanlon, MN 55720.
City of Wright | City Office, 1426 3rd Street, Wright, MN 55798.
Fond du Lac Band of Lake Superior Chippewa | Fond du Lac Band of Lake Superior Chippewa Tribal Center, 1720 Big Lake Road, Cloquet, MN 55720.
Unincorporated Areas of Carlton County | Carlton County Courthouse, 301 Walnut Avenue, Room 103, Carlton, MN 55718.
Wheatland County, Montana and Incorporated Areas
Docket No.: FEMA-B-2210
City of Harlowton | City Hall, 17 South Central Avenue, Harlowton, MT 59036.
Unincorporated Areas of Wheatland County | Wheatland County Court Clerk, 201 A Avenue NW, Harlowton, MT 59036.
Day County, South Dakota and Incorporated Areas
Docket No.: FEMA-B-2273
City of Waubay | City Hall, 45 North Main Street, Waubay, SD 57273.
City of Webster | City Hall, 800 Main Street, Webster, SD 57274.
Town of Andover | City and Fire Department Building, 123 South Main Street, Andover, SD 57422.
Town of Grenville | Town Hall, 911 Kosciusko Avenue, Grenville, SD 57239.
Town of Pierpont | Water Storage Building, 207 South 2nd Avenue, Pierpont, SD 57468.
Sisseton Wahpeton Oyate Tribe | Sisseton Wahpeton Oyate Emergency Management Office, 114 Lake Traverse Drive, Sisseton, SD 57262.
Unincorporated Ares of Day County | Day County Courthouse, 711 1st Street W, Webster, SD 57274.
Taylor County, Wisconsin and Incorporated Areas
Docket No.: FEMA-B-2235
City of Medford | City Hall, 639 South 2nd Street, Medford, WI 54451.
Unincorporated Areas of Taylor County | Taylor County Courthouse, 224 South 2nd Street, Medford, WI 54451.
Village of Gilman | Village Hall, 380 East Main Street, Gilman, WI 54433.
Village of Rib Lake | Village Hall, 655 Pearl Street, Rib Lake, WI 54470.
Village of Stetsonville | Village Hall, 105 North Gershwin Street, Stetsonville, WI 54480.

[FR Doc. 2023-24333 Filed 11-2-23; 8:45 am]

BILLING CODE 9110-12-P